DEPARTMENT OF TRANSPORTATION

Office of the Secretary

Aviation Proceedings, Agreements Filed During the Week Ending January 12, 2001

The following Agreements were filed with the Department of Transportation under the provisions of 49 U.S.C. sections 412 and 414. Answers may be filed within 21 days after the filing of the application.

Docket Number: OST-2001-8670.

Date Filed: January 11, 2001.

Parties: Members of the International Air Transport Association.

Subject: PTC12 USA-EUR 0110 dated 12 January 2001, Mail Vote 102—Resolutions 072ss and 075ss, Excursion Fares from Europe to USA, APEX Fares from Europe to USA, intended effective date: 25 January 2001.

Dorothy Y. Beard,
Federal Register Liaison.

[FR Doc. 01-2972 Filed 2-2-01; 8:45 am]

BILLING CODE 4910-62-P